DEPARTMENT OF STATE

[Public Notice 4133]

Culturally Significant Objects Imported for Exhibition Determinations: “Drawn Toward the Avant-Garde: Nineteenth- and Twentieth-Century French Drawings From the Royal Museum of Fine Arts, Copenhagen”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the object to be included in the exhibition “Drawn Toward the Avant-Garde: Nineteenth- and Twentieth-Century French Drawings from the Royal Museum of Fine Arts, Copenhagen,” imported from abroad for temporary exhibition within the United States, is of cultural significance. The objects are imported pursuant to a loan agreement with the foreign owner. I also determine that the exhibition or display of the exhibit objects at the Frick Art and Historical Center, Pittsburgh, Pennsylvania from on or about October 19, 2002 to on or about January 5, 2003, the Museum of Fine Arts, St. Petersburg, Florida from on or about January 25, 2003 to on or about March 23, 2003, and the Arkansas Art Center from on or about April 12, 2002 to on or about June 8, 2003, and at possible additional venues yet to be determined, is in the national interest. Public Notice of these Determinations is ordered to be published in the Federal Register.

FOR FURTHER INFORMATION CONTACT: For further information, contact Julianne Simpson, Attorney-Adviser, Office of the Legal Adviser, U.S. Department of State, (telephone: 202/619-6529). The address is U.S. Department of State, SA-44, 301 4th Street, SW., Room 700, Washington, DC 20547-0001.

Dated: September 13, 2002.
Patricia S. Harrison,
Assistant Secretary for Educational and Cultural Affairs, Department of State.

[FR Doc. 02-23985 Filed 9-19-02; 8:45 am]

BILLING CODE 4710-08-P